DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Revisions to National Flood Insurance Program Maps: Application Forms and Instructions for (C) LOMAs and (C) LOMR-Fs.

OMB Number: 1660-0015.

Abstract: The certification forms (referred to as MT-1 series forms) are designed to assist requesters in gathering information that FEMA needs to determine whether a certain property is likely to be flooded during a flood event that has a one-percent annual chance of being equaled or exceeded in any given year (base flood).

FEMA Form 81-87, Property Information, describes the location of the property, what is being requested, and what data are required to support the request.

FEMA Form 81-87A, Elevation Information, indicates what the Base (one-percent annual chance) Flood Elevation (BFE) for the property is, how the BFE was determined, the lowest ground elevation on the property, and/or the elevation of the lowest adjacent grade to any structures on the property. This information is required in order for FEMA to determine if the property that the requester would like removed from the SFHA is at or above the BFE.

FEMA Form 81-87B, Community Acknowledgment, requires that a community official certify that the request complies with minimum floodplain management criteria specified in 44 CFR 60.3, as per NFIP regulations 44 CFR 65.5(a)(4).

Affected Public: Individuals and households, business or other for profit, And State Local or Tribal Government.

Number of Respondents: 39,933.

Estimated Time per Respondent:

Annual Burden Hours
Project/activity (survey, form(s), focus group, etc.) | No. of respondents | Frequency of responses | Burden hours per response | Annual responses | Total annual burden hours
| (A) | (B) | (C) | (A × B ) | (A × B × C)
81-87, Property Information Form (Homeowners/Representatives of Homeowner) | 18,272 | Annual (1) | 1.63 | 18,272 | 29,783
81-87A, Elevation Form (Surveyors/Engineers) | 18,272 | Annual (1) | 1.25 | 18,272 | 22,840
*81-87B, Community Acknowledgment Form (Community Officials) | *3,389 | Annual (1) | 1.38 | 3,389 | 4,677
On-line LOMR-F Tutorial (Homeowners) | 1,700 | As needed | 0.5 | 1,700 | 850
Total |  |  | 4.76 |  | 58,150
*This form is not required for all requests. It is only required for LOMR-F and CLOMR-F requests.

Estimated Total Annual Burden Hours: 58,150.

Frequency of Response: Annually.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before January 9, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: November 28, 2005.
Darcy Bingham,
Branch Chief, Information Resources Management Branch, Information Technology Services Division.

[FR Doc. E5-7158 Filed 12-8-05; 8:45 am]

BILLING CODE 9110-12-P